NATIONAL FOUNDATION FOR THE ARTS AND HUMANITIES

Institute of Museum and Library Services; Proposed Collection, Comment Request, Program Guidelines

ACTION: Notice of requests for information collection.

SUMMARY: The Institute of Museum and Library Services as part of its continuing effort to reduce paperwork and respondent burden, conducts a pre-clearance consultation program to provide the general public and federal agencies with an opportunity to comment on proposed and/or continuing collections of information in accordance with the Paperwork Reduction Act of 1995 (PRA95) [44 U.S.C. 3508(2)(A)]. This program helps to ensure that requested data can be provided in the desired format, reporting burden (time and financial resources) is minimized, collection instruments are clearly understood, and the impact of collection requirements on respondents can be properly assessed. Currently the Institute of Museum and Library Services is soliciting comments concerning the proposed collection of application information for two grant programs: 21st Century Museum Professionals and Native American/Native Hawaiian Museum Services.

A copy of the proposed information collection request can be obtained by contacting the individual listed below in the ADDRESSES section of this notice.

DATES: Written comments must be submitted to the office listed in the ADDRESSES section below on or before September 14, 2004.

IMLS is particularly interested in comments that help the agency to:

• Evaluate whether the proposed collection of information is necessary for the proper performance of the functions of the agency, including whether the information will have practical utility;

• Evaluate the accuracy of the agency's estimate of the burden of the proposed collocation of information including the validity of the methodology and assumptions used;

• Enhance the quality, utility and clarity of the information to be collected; and

• Minimize the burden of the collection of information on those who are to respond, including through the use of appropriate automated electronic, mechanical, or other technological collection techniques or other forms of information technology, e.g., permitting electronic submissions of responses.

ADDRESSES: Send comments to: Barbara Smith, Technology Officer, Institute of Museum and Library Services, 1100 Pennsylvania Ave., NW., Room 223, Washington, DC 20506. Ms. Smith can be reached on Telephone: 202-606-5254 Fax: 202-606-0395 or by e-mail at bsmith@imls.gov.

SUPPLEMENTARY INFORMATION:

Background

The Institute of Museum and Library Services is an independent Federal grant-making agency authorized by the Museum and Library Services Act, 20 U.S.C. Section 91021, et seq. The IMLS provides a variety of grant programs to assist the nation's museums and libraries in improving their operations and enhancing their services to the public. Museums and libraries of all sizes and types may receive support from IMLS programs. The Museum and Library Services Act, 20 U.S.C. Section 9101, et seq. authorizes the Director of the Institute of Museum and Library Services to make grants to museums and other entities as the Director considers appropriate, and to Indian tribes and to organizations that primarily serve and represent Native Hawaiians.

I. The Museum and Library Services Act states that the purpose of Subtitle C—Museum Services is:

(1) To encourage and support museums in carrying out their public service role of connecting the whole of society to the cultural, artistic, historical, natural, and scientific understandings that constitute our heritage;

(2) To encourage and support museums in carrying out their educational role, as core providers of learning and in conjunction with schools, families, and communities;

(3) To encourage leadership, innovation, and applications of the most current technologies and practices to enhance museum services;

(4) To assist, encourage, and support museums in carrying out their stewardship responsibilities to achieve the highest standards in conservation and care of the cultural, historic, natural, and scientific heritage of the United States to benefit future generations;

(5) To assist, encourage, and support museums in achieving the highest standards of management and service to the public, and to ease the financial burden borne by museums as a result of their increasing use by the public; and

(6) To support resource sharing and partnerships among museums, libraries, schools, and other community organizations.

20 U.S.C. 9171. The 21st Century Museum Professionals and Native American/Native Hawaiian Museum Services grant programs are part of IMLS activities to achieve these purposes.

II. Current Actions

To administer these programs of grants, cooperative agreements and contracts, IMLS must develop application guidelines, reports and customer service surveys.

Agency: Institute of Museum and Library Services.

Title: Application Guidelines.

OMB Number: n/a.

Agency Number: 3137.

Frequency: Annually.

Affected Public: Museums, museum organizations, Indian tribes and to organizations that primarily serve and represent Native Hawaiians.

Number of Respondents: 150.

Estimated Time Per Respondent: 10-35 hours.

Total Burden Hours: 2750.

Total Annualized Capital/Startup Costs: 0.

Total Annual Costs: 0.

FOR FURTHER INFORMATION CONTACT: Rebecca Danvers, Director of the Office of Research and Technology, Institute of Museum and Library Services, 1100 Pennsylvania Avenue, NW., Washington, DC 20506, telephone (202) 606-2478.

Dated: July 13, 2004.
Rebecca Danvers,
Director, Office of Research and Technology

[FR Doc. 04-16196 Filed 7-15-04; 8:45 am]

BILLING CODE 7036-01-M